DEPARTMENT OF ENERGY

Federal Energy Regulatory Commission

[Project No. 14864-000]

Watterra Energy, LLC; Notice of Preliminary Permit Application Accepted for Filing and Soliciting Comments and Motions To Intervene

On November 29, 2017, Watterra Energy, LLC filed an application for a preliminary permit, pursuant to section 4(f) of the Federal Power Act (FPA), proposing to study the feasibility of the Barren River Lake Dam Hydroelectric Project (project), to be located at the existing U.S. Army Corps of Engineers' Barren River Lake Dam on the Barren River near the City of Bowling Green, Barren County, Kentucky. The sole purpose of a preliminary permit, if issued, is to grant the permit holder priority to file a license application during the permit term. A preliminary permit does not authorize the permit holder to perform any land-disturbing activities or otherwise enter upon lands or waters owned by others without the owners' express permission.

The proposed project would consist of the following: (1) A 960-foot-long, 14-foot-diameter steel penstock lining the existing concrete conduit; (2) a 14-foot-long, 14-foot-wide bifurcation structure attached to the proposed penstock, with one 265-foot-long branch extending to the proposed powerhouse, and the other 86-foot-long branch extending to the existing stilling basin to provide an outlet point for the release of floodwaters; (3) a 70-foot-long, 55-foot-wide powerhouse containing two Kaplan generating units with a total capacity of 11.63 megawatts; (4) a 75-foot-long tailrace; (5) a 50-foot-long, 50-foot-wide switchyard; and (6) a 4,210-foot-long, 12.5-kilovolt transmission line. The estimated annual generation of the project would be 41.64 gigawatt-hours, and would operate as directed by the U.S. Army Corps of Engineers.

Applicant Contact: Mr. Craig Dalton, Watterra Energy, LLC, 220 West Main Street, Hamilton, MT 59840; phone: (406) 384-0080.

FERC Contact: Navreet Deo; phone: (202) 502-6304.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14864-000.

More information about this project, including a copy of the application, can be viewed or printed on the eLibrary link of Commission's website at http://www.ferc.gov/docs-filing/elibrary.asp. Enter the docket number (P-14864) in the docket number field to access the document. For assistance, contact FERC Online Support.

Dated: January 5, 2018.
Kimberly D. Bose,
Secretary.

[FR Doc. 2018-00331 Filed 1-10-18; 8:45 am]

BILLING CODE 6717-01-P